DEPARTMENT OF VETERANS AFFAIRS

[OMB Control No. 2900-New (CCHT)]

Agency Information Collection (Care Coordination Home Telehealth (CCHT)) Activity Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, has submitted the collection of information abstracted below to the Office of Management and Budget (OMB) for review and comment. The PRA submission describes the nature of the information collection and its expected cost and burden and includes the actual data collection instrument.

DATES: Comments must be submitted on or before April 28, 2010.

ADDRESSES: Submit written comments on the collection of information through http://www.Regulations.gov or to VA's OMB Desk Officer, OMB Human Resources and Housing Branch, New Executive Office Building, Room 10235, Washington, DC 20503 (202) 395-7316. Please refer to “OMB Control No. 2900-New (CCHT)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (CCHT).”

SUPPLEMENTARY INFORMATION:

Title: Care Coordination Home Telehealth (CCHT) Patient Satisfaction Survey, VA Form 10-0481.

OMB Control Number: 2900-New (CCHT).

Type of Review: New collection.

Abstract: Patients enrolled in the CCHT program will receive survey questions through a messaging device located in their home. Patients can select an answer by the use of buttons, a touch screen application or electronically spoken to them through an Interactive Voice Response if they are visually impaired.

An agency may not conduct or sponsor, and a person is not required to respond to a collection of information unless it displays a currently valid OMB control number. The Federal Register Notice with a 60-day comment period soliciting comments on this collection of information was published on January 15, 2010, on page 2595.

Affected Public: Individuals or households.

Estimated Total Annual Burden: 1,640 hours.

Estimated Average Burden per Respondent—1.5 minutes.

Frequency of Response: Quarterly.

Estimated Number of Respondents: 16,400.

Estimated Number of Responses: 65,600.

Dated: March 22, 2010.
By direction of the Secretary.
Denise McLamb,
Program Analyst, Enterprise Records Service.

[FR Doc. 2010-6847 Filed 3-26-10; 8:45 am]

BILLING CODE 8320-01-P